DEPARTMENT OF THE INTERIOR

Fish and Wildlife Service

Receipt of Applications for Incidental Take Permits and Availability of an Environmental Assessment Associated With an Amendment to the Ocean Trails Habitat Conservation Plan, City of Rancho Palos Verdes, Los Angeles County, CA

AGENCY: Fish and Wildlife Service.

ACTION: Notice of availability.

SUMMARY: Ocean Trails, L.P. and the City of Rancho Palos Verdes (Applicants) have applied to the Fish and Wildlife Service for approval of an amendment to the Ocean Trails Habitat Conservation Plan and for issuance of incidental take permits pursuant to section 10(a)(1)(B) of the Endangered Species Act, 1973, as amended (Act). In 1997, the Service issued incidental take permit PRT-799348 to the Palos Verdes Land Holdings Company and the Zuckerman Building Company for incidental take of the threatened coastal California gnatcatcher (Polioptila californica californica) and other species associated with the Ocean Trails Project in Rancho Palos Verdes, California.

Subsequently, the original permittees formed the Ocean Trails, Limited Partnership, a new legal entity that proposes to assume the responsibilities of the original permitees. Since permit issuance, a landslide and road damage have occurred within habitat areas that were established as mitigation for the Ocean Trails Project. Both Applicants now seek permits for a period of 10 years that would authorize incidental take of the coastal California gnatcatcher associated with landslide and road repair proposed under the amendment to the Habitat Conservation Plan. In addition, Ocean Trails, L.P. seeks to transfer permit PRT-799348 to itself and to add the endangered Palos Verdes blue butterfly (Glaucopsyche lygdamus palosverdesenis) to this amended permit in the event that this species colonizes the planning area.

The Service seeks public comment on the permit applications, which include an Assumption Agreement for Ocean Trails L.P., as well as amendments to the original Habitat Conservation Plan and to the Implementation Agreement that defines the responsibilities of the parties under the Plan. We also seek comment on an amendment to the Environmental Assessment for our proposed permit actions. All comments will become part of the administrative record and may be released to the public.

DATES: We must receive your written comments on or before November 7, 2000.

ADDRESSES: Please address comments to the Field Supervisor, Fish and Wildlife Service, 2730 Loker Avenue West, Carlsbad, California 92008. You also may send comments by facsimile to telephone (760) 431-9624.

FOR FURTHER INFORMATION CONTACT: Ms. Mary Beth Woulfe, Branch Chief, at the above address or call (760) 431-9440.

Availability of Documents

You may obtain copies of the documents for review by calling the Service's Carlsbad Fish and Wildlife Office at the above referenced telephone number. Documents also are available for public inspection, by appointment, during normal business hours at the above address.

Background

Section 9 of the Act and its implementing regulations prohibit the “take” of threatened or endangered species. That is, no one may harass, harm, pursue, hunt, shoot, wound, kill, trap, capture or collect listed animal species, or attempt to engage in such conduct (16 U.S.C. 1538). Harm may include significant habitat modification where it actually kills or injures wildlife by significantly impairing essential behavioral patterns, including breeding, feeding, and sheltering (50 CFR 17.3(c)). The Service, however, may issue permits to take endangered and/or threatened wildlife species incidental to, and not the purpose of otherwise lawful activities. Regulations governing permits for endangered and/or threatened species are found at 50 CFR 17.22 and 17.32.

We propose to transfer permit PRT-799348 to Ocean Trails, L.P. and to amend this permit to authorize incidental take of the Palos Verdes blue butterfly and coastal California gnatcatcher from L.P.'s proposed activities as described in the amendment to the Habitat Conservation Plan. We also propose to issue a separate permit to the City of Rancho Palos Verdes to authorize incidental take of the coastal California gnatcatcher from proposed City road repairs within Shoreline Park.

The amended Habitat Conservation Plan describes alternatives to the action and provisions for minimization, mitigation, and monitoring of impacts. These proposed actions would compensate for both the temporary and permanent loss of habitat resulting from the proposed Projects and would benefit the long-term conservation of the coastal California gnatcatcher and the Palos Verdes blue butterfly.

The City of Rancho Palos Verdes would restore and conserve 1.68 acres of sage scrub habitat for both temporary and permanent impacts that would be caused by road repair within Shoreline Park. Ocean Trails, L.P. would plant the larval host plant of the Palos Verdes blue butterfly, grown from local seed, in several of its revegetation areas and may also allow for the species to be relocated to the Project site. In addition, Ocean Trails, L.P. would restore 26.96 acres of sage scrub habitat on both the reconstructed and stabilized landslide area and within the Shoreline Park conservation area. Ocean Trails, L.P. also would relocate the 10-acre revegetation site from the Switchback area to Shoreline Park. These sites are being managed in perpetuity for the conservation of the species covered by the Ocean Trails Habitat Conservation Plan.

The amendment to the Habitat Conservation Plan and the amendment to the Environmental Assessment considers three alternatives to each of the four aspects of the proposed Project:

A. Palos Verdes Blue Butterfly: (1) Under the No Project alternative, the Palos Verdes blue butterfly would not be added as a covered species under the Ocean Trails Habitat Conservation Plan; (2) Under the second alternative, partial replanting of the Palos Verdes blue butterfly host plant would take place on the Project site; and (3) Under the Proposed Project alternative, the Palos Verdes blue butterfly would be added as a covered species under the Ocean Trails Habitat Conservation Plan and the host plant would be planted in all of the Project's revegetation areas.

B. Landslide Remediation: (1) Under the No Project alternative, the Service would not approve the amendment and the landslide would not repaired; (2) Under the second alternative, there would be complete landslide removal and replacement; and (3) Under the Proposed Project alternative, there would be partial landslide removal and replacement along with both onsite and offsite revegetation.

C. Location of the 10-Acre Switchback Mitigation Site: (1) Under the No Project alternative, revegetation would remain in the Switchback area without irrigation; (2) Under the second alternative the habitat restoration required by the Habitat Conservation Plan and by this amendment would be installed at the White Point Preserve in San Pedro; and (3) Under the Proposed Project alternative the habitat restoration required by the Habitat Conservation Plan and by this amendment would be installed in the southern half of Shoreline Park adjacent to the existing revegetation efforts in the northern half of the park.

D. Road Repair: (1) Under the No Project alternative, the amendment would not be approved and the road would not be repaired and would continue to deteriorate, causing a significant danger to public health and safety; (2) Under the second alterative, the road would be excavated down to the base of the slope and reconstructed with properly compacted fill; and (3) Under the Proposed Project alternative, the road would be repaired by excavating down a maximum of 20 feet below the road surface and adding drainage improvements, impacting a maximum of 0.43 acre of sage scrub habitat

This notice is provided pursuant to section 10(a) of the Endangered Species Act and Service regulations for implementing the National Environmental Policy Act of 1969 (40 CFR 1506.6). We will evaluate the permit applications, the amended Habitat Conservation Plan, amended Environmental Assessment, the associated documents and comments submitted thereon to determine whether the applications meet the requirements of section 10(a) of the Endangered Species Act. If we determine that the requirements are met: (1) We will transfer permit PRT-799348 to Ocean Trails, L.P. and amend it to authorize incidental take of the Palos Verdes blue butterfly and coastal California gnatcatcher from L.P.”s proposed activities; and (2) we will issue a separate permit to the City of Rancho Palos Verdes to authorize incidental take of the coastal California gnatcatcher from proposed City road repairs. We will make a final decision on these permit actions no sooner than 60 days from the date of this notice.

Dated: August 30, 2000.
Elizabeth H. Stevens,
Deputy Manager, California/Nevada Operations Office, Fish and Wildlife Service, Sacramento, California.

[FR Doc. 00-23035 Filed 9-7-00; 8:45 am]

BILLING CODE 4310-55-P